DEPARTMENT OF THE INTERIOR

Fish and Wildlife Service

[FWS-R8-ES-2016-N222; FXES11130800000-167-FF08E00000]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing recovery permits to conduct certain activities with endangered species.

DATES: Comments on these permit applications must be received on or before January 7, 2016.

ADDRESSES: Written data or comments should be submitted to the Endangered Species Program Manager, U.S. Fish and Wildlife Service, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests.

Applicants

Permit No. TE-76006B-0

Applicant: Zoological Society of San Diego, San Diego, California

The applicant requests a new permit to take (harass by survey, capture, handle, and release) the mountain yellow-legged frog (Southern California Distinct Population Segment (DPS) (Rana muscosa) in conjunction with captive rearing, research, reintroduction into the wild, and survey activities throughout the range of the species in California for the purpose of enhancing the species' survival.

Permit No. TE-795930

Applicant: Brent Helm, Sheridan, California

The applicant requests a permit renewal to take (harass by survey, capture, handle, release, collect adult vouchers, collect branchiopod cysts, processing soil samples for branchiopod cyst identification, and culturing and hatching out branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with survey activities throughout the range of each of the species in California and Jackson County, Oregon; take (harass by survey, capture, handle, and release) the California tiger salamander (Santa Barbara County DPS) (Ambystoma californiense) in conjunction with survey activities throughout the range of the species in California; and to remove/reduce to possession the Neostapfia colusana (Colusa grass) and Tuctoria mucronata (Solano grass) on federal lands in conjunction with surveys, research, and habitat enhancement activities throughout the range of the species in Yolo and Solano Counties, California, for the purpose of enhancing the species' survival.

Permit No. TE-78055B

Applicant: Robert Matthews, Carlsbad, California

The applicant requests a permit renewal to take (harass by survey, capture, handle, release, collect adult vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with surveys throughout the range the species in California for the purpose of enhancing the species' survival.

Permit No. TE-170389

Applicant: Travis Cooper, San Diego, California

The applicant requests a permit amendment and renewal to take (harass by survey, locate and monitor nests, and remove brown-headed cowbird (Molothrus ater) eggs and chicks from parasitized nests) the southwestern willow flycatcher (Empidonax traillii extimus); take (locate and monitor nests and remove brown-headed cowbird eggs and chicks from parasitized nests) the least Bell's vireo (Vireo bellii pusillus); take (harass by survey, capture, handle, release, collect adult vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi); and take (survey by pursuit) the Quino checkerspot butterfly (Euphydryas editha quino) in conjunction with surveys and population studies throughout the range of the species in California and Arizona for the purpose of enhancing the species' survival.

Permit No. TE-64580A

Applicant: Nicholas Rice, Las Vegas, Nevada

The applicant requests a permit amendment and renewal to take (harass by survey) the southwestern willow flycatcher (Empidonax traillii extimus) and Yuma Ridgway's rail (Yuma clapper r.) (Rallus obsoletus yumanensis) (R. longirostris y.) in conjunction with surveys and population studies within Clark County, Nevada, for the purpose of enhancing the species' survival.

Permit No. TE-67397A

Applicant: Timothy Ricks, Las Vegas, Nevada

The applicant requests a permit amendment and renewal to take (harass by survey) the southwestern willow flycatcher (Empidonax traillii extimus) and Yuma Ridgway's rail (Yuma clapper r.) (Rallus obsoletus yumanensis) (R. longirostris y.) in conjunction with surveys and population studies within Clark County, Nevada, for the purpose of enhancing the species' survival.

Permit No. TE-821401

Applicant: Brian Daniels, Long Beach, California

The applicant requests a permit amendment and renewal to take (locate and monitor nests, and remove brown-headed cowbird (Molothrus ater) eggs and chicks from parasitized nests) the least Bell's vireo (Vireo bellii pusillus) and take (harass by survey) the southwestern willow flycatcher (Empidonax traillii extimus) in conjunction with surveys and population studies throughout the range of the species in California and Nevada for the purpose of enhancing the species' survival.

Permit No. TE-039321

Applicant: Kylie Fischer, Escondido, California

The applicant requests a permit renewal to take (locate and monitor nests and remove brown-headed cowbird (Molothrus ater) eggs and chicks from parasitized nests) the least Bell's vireo (Vireo bellii pusillus) in conjunction with surveys and population studies throughout the range of the species in California for the purpose of enhancing the species' survival.

Permit No. TE-800291

Applicant: Anne Wallace, Grass Valley, California

The applicant requests a permit renewal to take (harass by survey, capture, handle, release, collect adult vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi); take (harass by survey, capture, handle, and release) the California tiger salamander (Santa Barbara County and Sonoma County DPS) (Ambystoma californiense); and take (harass by survey) the California Ridgway's rail (California clapper r.) (Rallus obsoletus obsoletus) (R. longirostris o.) in conjunction with surveys and population studies throughout the range of the species in California and (harass by survey, locate and monitor nests, mark nests, collect carcasses) the California least tern (Sternula antillarum browni) (Sterna a. browni) in conjunction with surveys and population studies within the Montezuma Wetlands Project Site, Solano County, California, for the purpose of enhancing the species' survival.

Permit No. TE-141359

Applicant: Stephen Stringer, El Dorado Hills, California

The applicant requests a permit renewal to take (harass by survey, capture, handle, release, collect adult vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with surveys throughout the range the species in California and Oregon for the purpose of enhancing the species' survival.

Permit No. TE-78251B

Applicant: Amber Parmenter, Loomis, California

The applicant requests a new permit to take (harass by survey, capture, handle, release, collect adult vouchers, and collect branchiopod cysts) the Conservancy fairy shrimp (Branchinecta conservatio), longhorn fairy shrimp (Branchinecta longiantenna), and vernal pool tadpole shrimp (Lepidurus packardi) in conjunction with surveys and educational presentations within Rockwell Ranch Vernal Pool Preserve, Rodeo Grounds Preserve, and Western Placer Schools Conservation Bank, in Placer County, California, for the purpose of enhancing the species' survival.

Permit No. TE-43597A

Applicant: Dana McLauhlin, Chula Vista, California

The applicant requests a permit renewal to take (harass by survey, capture, handle, release) the Pacific pocket mouse (Perognathus longimembris pacificus), and San Bernardino Merriam's kangaroo rat (Dipodomys merriami parvus) in conjunction with surveys throughout the range the species in California for the purpose of enhancing the species' survival.

Permit No. TE-79271

Applicant: Shana Dodd, San Diego, California

The applicant requests a permit renewal to take (harass by survey, capture, handle, release) the Pacific pocket mouse (Perognathus longimembris pacificus), and San Bernardino Merriam's kangaroo rat (Dipodomys merriami parvus) in conjunction with surveys throughout the range the species in California for the purpose of enhancing the species' survival.

Permit No. TE-815144

Applicant: Rosemary Thompson, Santa Barbara, California

The applicant requests a permit renewal to take (harass by survey, capture, handle, release, and collect voucher specimens) the tidewater goby (Eucyclogobius newberryi) in conjunction with surveys throughout the range the species in California, and take (harass by survey, capture, handle, and release) the unarmored threespine stickleback (Gasterosteus aculeatus williamsoni) in conjunction with surveys on Vandenberg Air Force Base in Santa Barbara County in California for the purpose of enhancing the species' survival.

Permit No. TE-78388B

Applicant: Western Slope Wildlife LLC, Moab, Utah

The applicant requests a new permit to take (locate and monitor nests) the least Bell's vireo (Vireo bellii pusillus) and take (harass by survey and locate and monitor nests) the southwestern willow flycatcher (Empidonax traillii extimus) in conjunction with surveys and population studies throughout the range of the species in Arizona, California, New Mexico, Oregon, and Washington for the purpose of enhancing the species' survival.

Permit No. TE-139634

Applicant: Thomas Liddicoat, Vista, California

The applicant requests a permit renewal to take (harass by survey, capture, handle, release, collect adult vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with surveys throughout the range the species in California for the purpose of enhancing the species' survival.

Permit No. TE-64144A-1

Applicant: Emily Mastrelli, San Diego, California

The applicant requests a permit renewal to take (harass by survey, locate and, monitor nests, capture, handle, release, collect carcasses) the California least tern (Sternula antillarum browni) (Sterna a. browni) in conjunction with surveys and population monitoring throughout the range of the species in California, for the purpose of enhancing the species' survival.

Permit No. TE-063608

Applicant: Brian Lohstroh, San Diego, California

The applicant requests a permit renewal and amendment to take (harass by survey, capture, handle, release, collect adult vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi); take (survey by pursuit) the Quino checkerspot butterfly (Euphydryas editha quino); take (harass by survey) the southwestern willow flycatcher (Empidonax traillii extimus); take (locate and monitor nests) the least Bell's vireo (Vireo bellii pusillus); and take (capture, handle, and release) the arroyo toad (arroyo southwestern) (Anaxyrus californicus) in conjunction with surveys and population monitoring throughout the range the species in California for the purpose of enhancing the species' survival.

Permit No. TE-72013A

Applicant: John Durand, Davis, California

The applicant requests a permit amendment to take (harass by survey, capture, handle, release, and collect) the delta smelt (Hypomesus transpacificus) in conjunction with scientific research throughout the range of the species in the Suisun Marsh within Solano and Contra Costa Counties; Sherman Island within Solano, Sacramento, and Contra Costa Counties; Cache Slough Complex area within Solano and Yolo Counties; and Sherman Lake and Brown's Island area within Solano and Contra Costa Counties in California for the purpose of enhancing the species' survival.

Public Comments

We invite public review and comment on each of these recovery permit applications. Comments and materials we receive will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Angela Picco,
Acting Regional Director, Pacific Southwest Region, Sacramento, California.

[FR Doc. 2015-30816 Filed 12-7-15; 8:45 am]

BILLING CODE 4333-15-P